FEDERAL COMMUNICATIONS COMMISSION

Notice of Public Information Collection(s) Being Reviewed by the Federal Communications Commission for Extension Under Delegated Authority

May 4, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments July 11, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at (202) 418-0214 or via the Internet at Judith-B.Herman@fcc.gov.

SUPPLEMENTARY INFORMATION: OMB Control No.: 3060-0713.

Title: Alternative Broadcast Inspection Program (ABIP) Compliance Notification.

Form No.: N/A.

Type of Review: Extension of a currently approved collection.

Respondents: Business or other for profit and not-for-profit institutions.

Number of Respondents: 53.

Estimated Time per Response: 5 minutes (.084 hours).

Frequency of Response: On occasion reporting requirement.

Total Annual Burden: 220 hours.

Annual Cost Burden: N/A.

Privacy Act Impact Assessment: N/A.

Needs and Uses: The ABIP is an agreement between the Federal Communications Commission's Enforcement Bureau and an entity, usually a state broadcast association, in which the entity arranges for the inspection of the broadcast station to determine compliance with FCC regulations. The inspections are conducted on a voluntary basis and the entities notify the local FCC District Office or Resident Agent office, in writing via letter of those stations that pass the ABIP inspection and have been granted a Certificate of Compliance. The FCC's Enforcement Bureau standardized the existing Alternative Broadcast Inspection Program (ABIP) in 2003 to establish a specific, uniform arrangement for the inspection of broadcast stations. This information will be used by FCC to determine which broadcast stations comply with FCC Rules and will not be subject to routine inspections conducted by the FCC's District Offices. Without this information, the FCC would not be able to determine which stations should be exempt from random inspections.

OMB Control No.: 3060-0989.

Title: Procedures for Applicants Requiring Section 214 Authorizations for Domestic Interstate Transmission Lines Acquired through Corporate Control, 47 CFR Sections 63.01, 63.03 and 63.04.

Form No.: N/A.

Type of Review: Extension of a currently approved collection.

Respondents: Business or other for profit.

Number of Respondents: 86.

Estimated Time per Response: 1.5-12 hours.

Frequency of Response: On occasion reporting requirement.

Total Annual Burden: 958 hours.

Annual Cost Burden: $70,000.

Privacy Act Impact Assessment: N/A.

Needs and Uses: Procedures for this information collection are set forth for common carriers requiring authorization under section 214 of the Communications Act (Act) of 1934, as amended to acquire domestic interstate transmission lines through a transfer of control. Under section 214 of the Act, carriers must obtain FCC approval before constructing, acquiring, or operating an interstate transmission line. Acquisitions involving interstate common carriers require affirmative action by the FCC before the acquisition can occur. The Commission is requesting extension (no change) to this information collection in order to obtain the full three-year clearance. After this 60 day comment period has ended, the Commission will submit this information collection to OMB for approval.

Federal Communications Commission.
Marlene H. Dortch,
Secretary.

[FR Doc. 05-9407 Filed 5-10-05; 8:45 am]

BILLING CODE 6712-01-P